COMMISSION ON CIVIL RIGHTS

Notice of Public Meeting of the Texas Advisory Committee

AGENCY: U.S. Commission on Civil Rights.

ACTION: Announcement of briefing.

SUMMARY: Notice is hereby given, pursuant to the provisions of the rules and regulations of the U.S. Commission on Civil Rights (Commission) and the Federal Advisory Committee Act (FACA) that a briefing of the Texas Advisory Committee (Committee) to the Commission will be held from 10:00 a.m. to 3:30 p.m. (Central Time) Wednesday, August 10, 2022. The purpose of the briefing is for the Committee to hear testimony regarding mental health in the Texas Juvenile Justice System.

DATES: The briefing will be held on Wednesday, August 10, 2022, from 10:00 a.m. to 3:30 p.m. Central Time.

Location: Rice University, Moody Center for the Arts, Lois Chiles Studio, 6100 Main Street, Houston, TX 77005

FOR FURTHER INFORMATION CONTACT: Brooke Peery (DFO) at bpeery@usccr.gov or (202) 701-1376.

SUPPLEMENTARY INFORMATION: Members of the public are entitled to make comments during the open comment periods. Members of the public may also submit written comments; the comments must be received in the Regional Programs Unit within 30 days following the meeting. Written comments may be emailed to Brooke Peery at bpeery@usccr.gov. Persons who desire additional information may contact the Regional Programs Unit at (312) 353-8311.

Records and documents discussed during the meeting will be available for public viewing prior to and after the meeting at: https://www.facadatabase.gov/FACA/FACAPublicViewCommitteeDetails?id=a10t0000001gzkoAAA.

Please click on the “Meeting Details” and “Documents” links. Records generated from this meeting may also be inspected and reproduced at the Regional Programs Unit, as they become available, both before and after the meeting. Persons interested in the work of this Committee are directed to the Commission's website, https://www.usccr.gov, or may contact the Regional Programs Unit at the above email.

Agenda

I. Panel 1 (10:00 a.m.-11:30 a.m.)

II. Public Comment (11:30 a.m.-12:00 p.m.)

III. Lunch Break (12:00 p.m.-1:30 p.m.)

IV. Panel 2 (1:30 p.m.-3:00 p.m.)

V. Public Comment (3:00 p.m.-3:30 p.m.)

David Mussatt,
Supervisory Chief, Regional Programs Unit.

[FR Doc. 2022-16290 Filed 7-28-22; 8:45 am]

BILLING CODE 6335-01-P